FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 29, 2007.

A. Federal Reserve Bank of New York (Anne MacEwen, Bank Applications Officer) 33 Liberty Street, New York, New York 10045-0001:

1. Allied Irish Banks, p.l.c., Dublin, Ireland and M&T Bank Corporation, Buffalo, New York (M&T); to acquire 100 percent of the voting shares of Partners Trust Financial Group, (Partners Trust), and merge Partners Trust with and into M&T, and thereby acquire voting shares of Partners Trust Municipal Bank, Utica, New York.

In connection with this application, Allied Irish Banks. p.l.c., and M&T also have applied to acquire Partners Trust Bank; Partners NEWPRO, Inc.; Partners Preferred Capital Corporation; Partners Trust Investment Services, Inc.; BSB Mortgage Corporation; BSB Financial Services, Inc.; Groupinsure Brokerage Holding, Inc.; and SBU Mortgage Corporation, all of Utica, New York, and thereby engage in operating a federal savings bank, pursuant to section 225.28(b)(4)(ii); in extending credit and servicing loans, pursuant to section 225.28(b)(1); in asset management, servicing, and collection activities, pursuant to section 225.28(b)(2)(vi); and in securities brokerage activities, pursuant to section 225.28(b)(7)(i), all of Regulation Y.

B. Federal Reserve Bank of Richmond (A. Linwood Gill, III, Vice President) 701 East Byrd Street, Richmond, Virginia 23261-4528:

1. SCBT Financial Corporation, Columbia, South Carolina; to acquire 100 percent of the voting shares of TSB Financial Corporation, and thereby indirectly acquire voting shares of The Scottish Bank, both of Charlotte, North Carolina.

C. Federal Reserve Bank of Atlanta (David Tatum, Vice President) 1000 Peachtree Street, N.E., Atlanta, Georgia 30309:

1. Pinnacle Financial Partners, Inc., Nashville, Tennessee; to merge with Mid-America Bancshares, Inc., and thereby indirectly acquire voting shares of Bank of the South, Mt. Juliet, Tennessee, and PrimeTrust Bank, Nashville, Tennessee.

D. Federal Reserve Bank of Minneapolis (Jacqueline G. King, Community Affairs Officer) 90 Hennepin Avenue, Minneapolis, Minnesota 55480-0291:

1. Hazen Bancorporation, Hazen, North Dakota; to acquire additional voting shares, for a total of 16.67 percent, of North Star Holding Company, and thereby indirectly acquire additional voting shares of Unison Bank, both of Jamestown, North Dakota.

2. McIntosh County Bank Holding Company, Ashley, North Dakota; to acquire additional voting shares, for a total of 33.33 percent, of North Star Holding Company, and thereby indirectly acquire additional voting shares of Unison Bank, both of Jamestown, North Dakota.

3. Wishek Bancorporation, Wishek, North Dakota; to acquire additional voting shares, for a total of 33.3 percent, of North Star Holding Company, and thereby indirectly acquire additional voting shares of Unison Bank, both of Jamestown, North Dakota.

E. Federal Reserve Bank of Kansas City (Todd Offenbacker, Assistant Vice President) 925 Grand Avenue, Kansas City, Missouri 64198-0001:

1. Bruning Bancshares, Inc., Bruning, Nebraska; to acquire up to 15 percent of the voting shares of 3MV Bancorp, Inc., and thereby indirectly acquire voting shares of Access Bank (in organization), both in Omaha, Nebraska.

2. 3MV Bancorp, Inc.; to become a bank holding company by acquiring 100 percent of the voting shares of Access Bank (in organization), both of Omaha, Nebraska.

Board of Governors of the Federal Reserve System, October 1, 2007.
Robert deV. Frierson,
Deputy Secretary of the Board.

[FR Doc. E7-19623 Filed 10-3-07; 8:45 am]

BILLING CODE 6210-01-S